ENVIRONMENTAL PROTECTION AGENCY

[FRL-9762-01-ORD]

Request for Nominations of Experts to the EPA Office of Research and Development's Human Studies Review Board Advisory Committee

AGENCY: Environmental Protection Agency (EPA).

ACTION: Notice.

SUMMARY: The U.S. Environmental Protection Agency (EPA) invites nominations from a diverse range of qualified candidates with expertise in the areas of toxicology, bioethics, and statistics to be considered for appointment to its Human Studies Review Board (HSRB) federal advisory committee. Submission of nominations will be made via the HSRB website at: https://www.epa.gov/osa/human-studies-review-board.

DATES: Nominations should be submitted by May 31, 2022, per instructions below.

ADDRESSES: Instructions on how to submit nomination will be provided at the HSRB website at https://www.epa.gov/osa/human-studies-review-board.

FOR FURTHER INFORMATION CONTACT: Any member of the public needing additional information regarding this Notice and Request for Nominations may contact Mr. Tom Tracy, Office of Science Policy, Office of Research and Development, Mail Code B343-01, 109 T.W. Alexander Drive, Research Triangle Park, NC 27711; via phone/voice mail at: (919) 541-4334; or via email at: tracy.tom@epa.gov. General information concerning the HSRB can be found at the following website: https://www.epa.gov/osa/human-studies-review-board.

SUPPLEMENTARY INFORMATION:

Background

On February 6, 2006, the Agency published a final rule for the protection of human subjects in research (71 FR 24 6138) that called for creating a new, independent human studies review board (i.e., HSRB). The HSRB is a federal advisory committee operating in accordance with the Federal Advisory Committee Act (FACA) 5 U.S.C. App. 2 § 9 (Pub. L. 92-463). The HSRB provides advice, information, and recommendations to EPA on issues related to scientific and ethical aspects of human subjects research. The major objectives of the HSRB are to provide advice and recommendations on: (1) Research proposals and protocols that include human subjects; and (2) reports of completed research with human subjects. Typically, the HSRB reviews protocols and completed studies involving pesticide studies, such as worker exposure studies with agricultural handlers applying pesticides in field conditions; janitorial maintenance personnel applying antimicrobial pesticides in commercial settings; and field efficacy studies for skin applied insect repellent products. The HSRB reports to the EPA Administrator through EPA's Chief Scientist. General information concerning the HSRB, including its charter, current membership, and activities can be found on the EPA website at https://www.epa.gov/osa/human-studies-review-board.

HSRB members serve as special government employees or regular government employees. Members are appointed by the EPA Administrator for either two or three year terms with the possibility of reappointment for additional terms, for a maximum of six years of service. The HSRB convenes on average four times a year, with all of the meetings being virtual. The average workload for HSRB members is approximately 20 hours per meeting, including the time spent at the meeting. Responsibilities of HSRB members include reviewing extensive background materials prior to meetings of the Board, preparing draft responses to Agency charge questions, attending Board meetings, participating in the discussion and deliberations at these meetings, drafting assigned sections of meeting reports, and assisting with the finalization of HSRB reports. EPA compensates special government employees for their time and provides reimbursement for travel and other incidental expenses associated with official government business related to the HSRB meetings. EPA values and welcomes diversity. In an effort to obtain nominations of diverse candidates, EPA encourages nominations of women and men of all racial and ethnic groups, as well as from a variety of backgrounds (e.g., industry, non-profit organizations, academia, and government).

Candidates not selected for HSRB membership at this time may be considered for HSRB membership as vacancies arise in the future or for service as consultants to the HSRB. Members of the HSRB are subject to the provisions of 5 CFR part 2634, Executive Branch Financial Disclosure, as supplemented by the EPA in 5 CFR part 6401. In anticipation of this requirement, each nominee will be asked to submit confidential financial information that fully discloses, among other financial interests, the candidate's employment, stocks and bonds, and where applicable, sources of research support. The information provided is strictly confidential and will not be disclosed to the public. Before a candidate is considered further for service on the HSRB, EPA will evaluate each candidate to assess whether there is any conflict of financial interest, appearance of a lack of impartiality, or prior involvement with matters likely to be reviewed by the Board.

Nominations will be evaluated on the basis of several criteria, including: Professional background, expertise, and experience that would contribute to the diversity of perspectives of the committee; interpersonal, oral, and written communication skills and other attributes that would contribute to the HSRB's collaborative process; consensus building skills; absence of any financial conflicts of interest or the appearance of a lack of impartiality, or lack of independence, or bias; and the availability to participate in meetings and administrative sessions, participate in teleconferences, develop policy recommendations to the Administrator, and prepare recommendations and advice in reports.

Nominations should include a resume or curriculum vitae providing the nominee's educational background, qualifications, leadership positions in national associations or professional societies, relevant research experience and publications along with a short (one page) biography describing how the nominee meets the above criteria and other information that may be helpful in evaluating the nomination, as well as the nominee's current business address, email address, and daytime telephone number. Interested candidates may self-nominate.

To help the Agency in evaluating the effectiveness of its outreach efforts, nominees are requested to inform the Agency of how you learned of this opportunity.

Final selection of HSRB members is a discretionary function of the Agency and will be announced on the HSRB website at https://www.epa.gov/osa/human-studies-review-board as soon as selections are made.

Mary Ross,
Director, Office of Science Advisor, Policy and Engagement.

[FR Doc. 2022-09470 Filed 5-2-22; 8:45 am]

BILLING CODE 6560-50-P